DEPARTMENT OF HEALTH AND HUMAN SERVICES

National Institutes of Health

Office of the Director Notice of Charter Renewal

In accordance with Title 41 of the U.S. Code of Federal Regulations, Section 102-3.65(a), notice is hereby given that the Charter for the Board of Regents of the National Library of Medicine (BOR) was renewed for an additional two-year period on November 20, 2014.

It is determined that the BOR is in the public interest in connection with the performance of duties imposed on the Department of Health and Human Services by law, and that these duties can best be performed through the advice and counsel of this group.

Inquires may be directed to Jennifer S. Spaeth, Director, Office of Federal Advisory Committee Policy, Office of the Director, National Institutes of Health, 6701 Democracy Boulevard, Suite 1000, Bethesda, Maryland 20892 (Mail Code 4875), Telephone (301) 496-2123, or spaethj@od.nih.gov.

Dated: December 3, 2014.
Jennifer S. Spaeth,
Director, Office of Federal Advisory Committee Policy.

[FR Doc. 2014-28750 Filed 12-8-14; 8:45 am]

BILLING CODE 4140-01-P